DEPARTMENT OF THE INTERIOR

National Park Service

[2253-665]

Notice of Inventory Completion: Slater Museum of Natural History, University of Puget Sound, Tacoma, WA

AGENCY: National Park Service, Interior.

ACTION: Notice.

SUMMARY: The Slater Museum of Natural History, University of Puget Sound has completed an inventory of a human remain, in consultation with the appropriate Indian tribes, and has determined that there is no cultural affiliation between the human remain and any present-day Indian tribe. Representatives of any Indian tribe that believes itself to be culturally affiliated with the human remain may contact the Slater Museum of Natural History, University of Puget Sound. Disposition of the human remain to the Indian tribes stated below may occur if no additional requestors come forward.

DATES: Representatives of any Indian tribe that believes it has a cultural affiliation with the human remain should contact the Slater Museum of Natural History, University of Puget Sound at the address below by September 7, 2011.

ADDRESSES: Peter Wimberger, Slater Museum of Natural History, University of Puget Sound, 1500 North Warner St., Tacoma, WA 98416-1088, telephone (253) 879-2784.

SUPPLEMENTARY INFORMATION: Notice is here given in accordance with the Native American Graves Protection and Repatriation Act (NAGPRA), 25 U.S.C. 3003, of the completion of an inventory of a human remain in the possession of the Slater Museum of Natural History, University of Puget Sound, Tacoma, WA. The human remain was likely removed from “Columbia River, Wa.”.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remain was made by the Slater Museum of Natural History, University of Puget Sound professional staff in consultation with representatives of the Confederated Tribes and Bands of the Yakama Nation, Washington; Confederated Tribes of the Chehalis Reservation, Washington; Confederated Tribes of the Colville Reservation, Washington; Confederated Tribes of the Umatilla Indian Reservation, Oregon; Confederated Tribes of the Warm Springs Reservation of Oregon; Cowlitz Indian Tribe, Washington; Kalispel Indian Community of the Kalispel Reservation, Washington; Nez Perce Tribe, Idaho; Shoalwater Bay Tribe of the Shoalwater Bay Indian Reservation, Washington; and the Spokane Tribe of the Spokane Reservation, Washington (hereinafter referred to as “The Tribes”). The Slater Museum of Natural History, University of Puget Sound also consulted with the following non-Federally recognized Indian groups: the Chinook Tribe and the Wanapum Band (hereinafter referred to as “The Indian Groups”).

The Slater Museum of Natural History, University of Puget Sound received a formal, joint intertribal NAGPRA claim for the individual described in this notice from the Confederated Tribes and Bands of the Yakama Nation, Washington; Confederated Tribes of the Colville Reservation, Washington; Confederated Tribes of the Umatilla Indian Reservation, Oregon; Confederated Tribes of the Warm Springs Reservation of Oregon; and the Wanapum Band, a non-Federally recognized Indian group.

History and Description of the Remains

In May 1934, a human remain—a mandible—representing a minimum of one individual was likely removed from “Columbia River, Wa.”. This area of removal is based on information supplied by Stanley G. Jewett. Jewett donated many mammal and bird collections to the Slater Museum of Natural History. The mandible was part of Accession 483, which included all of the human remains given by Jewett to the Slater Museum. The mandible was reviewed by a physical anthropologist who noted the presence of a broad and wide ascending ramus and a straight mandibular border. These characteristics indicate that the individual is likely of Native American ancestry. No known individual was identified. No associated funerary objects are present.

Jewett's bird and mammal collecting catalogs (noted for their meticulousness) that are dated May 1934 indicate that he was on the Oregon Coast near the Columbia River during that time. His other catalog entries for that month were from the southeast Oregon region, away from the Columbia River. However, the remain is white in color, and it is the opinion of museum staff that it does not exhibit the darker coloration usually found on remains removed from burials west of the Cascade mountains; this may suggest the individual was removed from a location east of the Cascades. In general, Jewett traveled extensively and may have been almost anywhere on the Columbia River from the Canadian border to the Pacific Coast during May 1934. While Jewett's collecting catalogs indicate that he was working at the mouth of the Columbia River near the Washington coast during this time period, museum staff consider the coloration of the remain to suggest an origin east of the Cascades.

Since it is not possible to determine specific provenience, museum officials reasonably believe that the removal was from somewhere along the Columbia River, likely from an area east of the Cascades (based on the bone coloration). This area encompasses 18 Washington State counties: Pacific, Wahkiakum, Cowlitz, Clark, Skamania, Klickitat, Benton, Walla Walla, Franklin, Yakima, Grant, Kittitas, Chelan, Douglas, Lincoln, Okanogan, Ferry, and Stevens.

Determinations Made by the Slater Museum of Natural History, University of Puget Sound

Officials of the Slater Museum of Natural History, University of Puget Sound have determined that:

• Based on morphological characteristics and museum records, the human remains are Native American.

• Pursuant to 25 U.S.C. 3001(2), a relationship of shared group identity cannot be reasonably traced between the Native American human remains and any present-day Indian tribe.

• Multiple lines of evidence, including treaties (e.g. Treaty of Camp Stevens), Acts of Congress, and Executive Orders, indicate that the land from which the Native American human remain was removed is the aboriginal and ceded land of The Tribes and The Indian Groups.

• Pursuant to 25 U.S.C. 3001(9), the human remain described in this notice represent the physical remain of one individual of Native American ancestry.

• Pursuant to 43 CFR 10.11(c)(1), the disposition of the human remain is to the Confederated Tribes and Bands of the Yakama Nation, Washington; Confederated Tribes of the Colville Reservation, Washington; Confederated Tribes of the Umatilla Indian Reservation, Oregon; Confederated Tribes of the Warm Springs Reservation of Oregon; and the Wanapum Band, a non-Federally recognized Indian group.

Additional Requestors and Disposition

Representatives of any Indian tribe that believes itself to be culturally affiliated with the human remain or any other Indian tribe that believes it satisfies the criteria in 43 CFR 10.11(c)(1) should contact Peter Wimberger, Slater Museum of Natural History, University of Puget Sound, 1500 North Warner St., Tacoma, WA 98416-1088, telephone (253) 879-2784, before September 7, 2011. Disposition of the human remain to the Confederated Tribes and Bands of the Yakama Nation, Washington; Confederated Tribes of the Colville Reservation, Washington; Confederated Tribes of the Umatilla Indian Reservation, Oregon; Confederated Tribes of the Warm Springs Reservation of Oregon; and the Wanapum Band, a non-Federally recognized Indian group, may proceed after that date if no additional requestors come forward.

The Slater Museum of Natural History, University of Puget Sound is responsible for notifying The Tribes and The Indian Groups that this notice has been published.

Dated: August 2, 2011.
Sherry Hutt,
Manager, National NAGPRA Program.

[FR Doc. 2011-19990 Filed 8-5-11; 8:45 am]

BILLING CODE 4312-50-P